DEPARTMENT OF THE TREASURY

CUSTOMS SERVICE

[T.D. 01-56]

Customs Accreditation of Camin Cargo Incorporated as a Commercial Laboratory

AGENCY: Customs Service, Department of the Treasury.

ACTION: Notice of accreditation of Camin Cargo, Inc. of Linden, New Jersey as a commercial laboratory.

SUMMARY: Camin Cargo, Inc. of Linden, New Jersey, has applied to U.S. Customs under § 151.12 of the Customs Regulations for an extension of accreditation as a commercial laboratory to analyze petroleum product under Chapter 27 and Chapter 29 of the Harmonized Tariff Schedule of the United States (HTSUS). Customs has determined that this company meets all of the requirements for accreditation as a commercial laboratory. Specifically, Camin Cargo, Inc. has been granted accreditation to perform the following tests methods at their Pasadena Texas site: (1) API Gravity by Hydrometer, ASTM D287; (2) API Gravity by Densitometer, ASTM D4052; (3) Water and Sediment in Crude Oils by Centrifuge, ASTM D4007; (4) Water and Sediment in Fuel Oils by Centrifuge, ASTM D1796; (5) Knock Characteristics of Motor Fuels by Research Method, ASTM D2699; (6) Knock Characteristics of Motor and Aviation Fuels by Motor Method, ASTM D2700; (7) Water in Petroleum Products and Bituminous Materials by Distillation, ASTM D95; (8) Water in Liquid Petroleum Products by Karl Fischer Reagent (Titration Method), ASTM D1744; (9) Vapor Pressure of Petroleum Products (Reid Method), ASTM D323; (10) Vapor Pressure of Petroleum Products (Mini Method), ASTM D5191; (11) Kinematic Viscosity, ASTM D445; (12) Sediment in Crude Oils and Fuel Oils by Extraction, ASTM D473; (13) Percent by Weight of Sulfur by Energy-Dispersive X-Ray Fluorescence, ASTM D4294. Therefore, in accordance with Part 151.12 of the Customs Regulations, Camin Cargo, Inc. is hereby accredited to analyze the products named above.

Location: Camin Cargo, Inc. accredited site is located at: 1800 Dabney Drive, Pasadena, Texas 77536.

Effective Date: August 13, 2001.

FOR FURTHER INFORMATION CONTACT: Michael Parker, National Quality Manager, Laboratories and Scientific Services, U.S. Customs Service, 1300 Pennsylvania Avenue, NW, Suite 1500 North, Washington, D.C. 20229, (202) 927-1060.

Dated: August 13, 2001.
Ira S. Reese,
Acting Executive Director, Laboratories and Scientific Services.

[FR Doc. 01-20830 Filed 8-16-01; 8:45 am]

BILLING CODE 4820-02-P